SUSQUEHANNA RIVER BASIN COMMISSION

Actions Taken at the June 13, 2024 Meeting

AGENCY: Susquehanna River Basin Commission

ACTION: Notice.

SUMMARY: As part of its regular business meeting held on June 13, 2024, in Harrisburg, Pennsylvania, the Commission approved the applications of certain water resources projects and took additional actions, as set forth in the Supplementary Information below.

DATES: June 13, 2024.

ADDRESSES: Susquehanna River Basin Commission, 4423 N Front Street, Harrisburg, PA 17110-1788.

FOR FURTHER INFORMATION CONTACT: Jason E. Oyler, General Counsel and Secretary, telephone: (717) 238-0423, ext. 1312, fax: (717) 238-2436; email: joyler@srbc.gov. Regular mail inquiries may be sent to the above address. See also the Commission website at www.srbc.gov.

SUPPLEMENTARY INFORMATION: In addition to the actions taken on projects identified in the summary above, these actions were also taken: (1) elected Commission officers for FY2025; (2) reconciled and adopted the FY2025 budget; (3) adopted Policy 2024-01, “SRBC Procurement Procedures”, (4) adopted a resolution to allow the Commission to use a reserve fund as a line of credit, (5) adopted the 2025-2027 Water Resources Program; and (6) actions on 19 regulatory program projects.

Project Applications Approved

1. Project Sponsor: Berwick Enterprises, Inc. Project Facility: The Bridges Golf Club, Berwick Township, Adams County, Pa. Application for renewal of consumptive use of up to 0.249 mgd (30-day average) (Docket No. 19950102).

2. Project Sponsor and Facility: BKV Operating, LLC (Meshoppen Creek), Washington Township, Wyoming County, Pa. Application for renewal of surface water withdrawal of up to 2.160 mgd (peak day) (Docket No. 20190602).

3. Project Sponsor and Facility: BKV Operating, LLC (Susquehanna River), Washington Township, Wyoming County, Pa. Application for renewal of surface water withdrawal of up to 2.914 mgd (peak day) (Docket No. 20190603).

4. Project Sponsor and Facility: BKV Operating, LLC (unnamed tributary to Middle Branch Wyalusing Creek), Forest Lake Township, Susquehanna County, Pa. Application for renewal of surface water withdrawal of up to 0.648 mgd (peak day) (Docket No. 20190604).

5. Project Sponsor: Byler Golf Management, Inc. Project Facility: Iron Valley Golf Club, Cornwall Borough, Lebanon County, Pa. Applications for renewal of consumptive use of up to 0.300 mgd (30-day average) and groundwater withdrawals (30-day averages) of up to 0.300 mgd from Well Lb-814 and 0.140 mgd from Well B (Docket No. 20200902).

6. Project Sponsor: Cowanesque Valley Recreation Association. Project Facility: River Valley Country Club, Westfield Township, Tioga County, Pa. Application for renewal of consumptive use of up to 0.099 mgd (30-day average) (Docket No. 20020602).

7. Project Sponsor and Facility: Dillsburg Area Authority, Carroll Township, York County, Pa. Application for renewal of groundwater withdrawal of up to 0.280 mgd (30-day average) from Well 5A (Docket No. 19980703).

8. Project Sponsor and Facility: EQT ARO LLC (Pine Creek), McHenry Township, Lycoming County, Pa. Application for renewal of surface water withdrawal of up to 1.500 mgd (peak day) (Docket No. 20190601).

9. Project Sponsor and Facility: Keystone Clearwater Solutions, LLC (Lycoming Creek), Lewis Township, Lycoming County, Pa. Application for renewal of surface water withdrawal of up to 1.250 mgd (peak day) (Docket No. 20190608).

10. Project Sponsor and Facility: Lear Corporation Pine Grove, Pine Grove Borough, Schuylkill County, Pa. Application for renewal of consumptive use of up to 0.160 mgd (30-day average) (Docket No. 19940501).

11. Project Sponsor: Londonderry Township. Project Facility: Sunset Golf Course, Londonderry Township, Dauphin County, Pa. Application for renewal of consumptive use of up to 0.181 mgd (30-day average) (Docket No. 20190613). Located in an Environmental Justice area.

12. Project Sponsor and Facility: Lycoming County Water and Sewer Authority, Fairfield Township, Lycoming County, Pa. Application for groundwater withdrawal of up to 0.216 mgd from Well PW-2 (30-day average).

13. Project Sponsor and Facility: Mount Joy Borough Authority, Mount Joy Borough, Lancaster County, Pa. Application for renewal of groundwater withdrawal of up to 1.020 mgd (30-day average) from Well 3 (Docket No. 20070607), and modification of Docket Nos. 20110617, 20110617-1, and 20110617-2 for Wells 1 and 2 by adding conditions related to Well 3 and proposed operations.

14. Project Sponsor: Pennsylvania—American Water Company. Project Facility: Philipsburg/Moshannon District, Rush Township, Centre County, Pa. Applications for renewal of groundwater withdrawals (30-day averages) of up to 0.600 mgd from Cold Stream Well 1, 0.432 mgd from Cold Stream Well 2, and 0.374 mgd from Cold Stream Well 3 (Docket No. 19890302).

15. Project Sponsor and Facility: Seneca Resources Company, LLC (Tioga River), Richmond Township, Tioga County, Pa. Application for surface water withdrawal of up to 3.000 mgd (peak day).

16. Project Sponsor and Facility: Shippensburg Borough Authority, Southampton Township, Franklin County, Pa. Application for renewal of groundwater withdrawal of up to 1.900 mgd from Well 2 (Docket No. 19940504).

17. Project Sponsor and Facility: SWN Production Company, LLC (North Branch Mehoopany Creek), Forkston Township, Wyoming County, Pa. Application for surface water withdrawal of up to 2.500 mgd (peak day).

18. Project Sponsor and Facility: Tower City Borough Authority, Porter Township, Schuylkill County, Pa. Applications for renewal of groundwater withdrawals (30-day averages) of up to 0.086 mgd from Well 5 and 0.070 mgd from Well 6 (Docket No. 19920301). Located in an Environmental Justice area.

19. Project Sponsor and Facility: Town of Erwin, Steuben County, N.Y. Applications for renewal of groundwater withdrawals (30-day averages) of up to 1.700 mgd from Well 4 and 0.634 mgd from Well 6 (Docket Nos. 19990503 and 20070602, respectively). Located in an Environmental Justice area.

Authority: Public Law 91-575, 84 Stat. 1509 et seq., 18 CFR parts 806, 807, and 808.

Dated: June 17, 2024.
Jason E. Oyler,
General Counsel and Secretary to the Commission.

[FR Doc. 2024-13652 Filed 6-20-24; 8:45 am]

BILLING CODE 7040-01-P